DEPARTMENT OF COMMERCE

Bureau of Economic Analysis

[Docket No. 179323306-7306-01]

RIN 0691-XC067

Proposed Information Collection; Request for Comments; Survey: Expenditures Incurred by Recipients of Biomedical Research and Development Awards From the National Institutes of Health (NIH)

AGENCY: Bureau of Economic Analysis, Department of Commerce.

ACTION: Notice; request for comments.

SUMMARY: The Department of Commerce, as part of its continuing effort to reduce paperwork and respondent burden, as required by the Paperwork Reduction Act of 1995, invites the general public and other Federal agencies to comment on this survey of expenditures incurred by recipients of biomedical research and development awards from the NIH.

DATES: Written comments must be submitted on or before July 25, 2017.

ADDRESSES: Direct all written comments to Jennifer Jessup, Departmental Paperwork Clearance Officer, Department of Commerce, Room 6616, 14th and Constitution Avenue NW., Washington, DC 20230, or via email at PRAcomments@doc.gov.

FOR FURTHER INFORMATION CONTACT: Jennifer A. Bennett, Chief, Government Fixed Assets Branch, Government Division (BE-57), Bureau of Economic Analysis, U.S. Department of Commerce, 4600 Silver Hill Rd., Washington, DC 20233 via phone at (301) 278-9769, or via email at jennifer.bennett@bea.gov.

SUPPLEMENTARY INFORMATION:

I. Abstract

The survey obtains the distribution of expenditures incurred by recipients of biomedical research awards from the National Institutes of Health (NIH) in order to provide information on how the NIH award amounts are expended across several major categories. This information, along with wage and price data from other published sources, will be used to generate the Biomedical Research and Development Price Index (BRDPI). The Bureau of Economic Analysis (BEA) develops this index for NIH under a reimbursable contract. The BRDPI is an index of prices paid for the labor, supplies, equipment, and other inputs required to perform the biomedical research the NIH supports in its intramural laboratories and through its awards to extramural organizations. The BRDPI is a vital tool for planning the NIH research budget and analyzing future NIH programs. A survey of award recipients is currently the only means for updating the expenditure category weights that are used to prepare the BRDPI.

II. Authority

The Department of Commerce, as part of its continuing effort to reduce paperwork and respondent burden pursuant to the requirements of the Paperwork Reduction Act of 1995 (44 U.S.C. 3506(c)(2)(A)), invites the general public and other Federal agencies to comment on this survey of expenditures incurred by recipients of biomedical research and development awards from the NIH. This survey will be voluntary. The authority for NIH to collect information for the BRDPI is provided in 45 CFR, part 74, subpart C (Post-Award Requirements), in which section 74.21 sets forth explicit standards for grantees in establishing and maintaining financial management systems and records, and section 74.53 provides for the retention of such records, as well as NIH access to such records.

BEA will administer the survey and analyze the survey results on behalf of NIH, through an interagency agreement between the two agencies. The authority for the NIH to contract with the Department of Commerce (DOC) to make this collection is the Economy Act (31 U.S.C. 1535 and 1536).

The special studies authority, 15 U.S.C. 1525, permits DOC to provide, upon the request of any person, firm, or public or private organization special studies on matters within DOC's authority, including preparing from its records special compilations, lists, bulletins, or reports, and furnishing transcripts or copies of its studies, compilations and other records. NIH's support for this research is consistent with its duties and authority under 42 U.S.C. 282.

The information provided by the respondents will be kept confidential and be used for exclusively statistical purposes. This pledge of confidentiality is made under the confidential information protection provisions of title V, subtitle A of Public Law 107-347. Title V is the Confidential Information Protection and Statistical Efficiency Act of 2002 (CIPSEA). Section 512 (Limitations on Use and Disclosure of Data and Information) of CIPSEA provides that data or information acquired by an agency under a pledge of confidentiality and for exclusively statistical purposes shall be used by officers, employees, or agents of the agency exclusively for statistical purposes. Data or information acquired by an agency under a pledge of confidentiality for exclusively statistical purposes shall not be disclosed by an agency in identifiable form for any use other than an exclusively statistical purpose, except with the informed consent of the respondent.

Responses will be kept confidential and will not be disclosed in identifiable form to anyone, other than employees or agents of BEA or agents of NIH, without prior written permission of the person filing the report. By law, each employee or agent is subject to a jail term of up to 5 years, a fine of up to $250,000, or both, for disclosing to the public any identifiable information that is reported about a business or institution.

In addition, section 515 of the Treasury and General Government Appropriations Act, 2001 (Pub. L. 106-554, Appendix C, § 515) applies to this survey. The collection and use of this information complies with all applicable information quality guidelines of the Office of Management and Budget, DOC, and BEA.

III. Method of Collection

A survey with a cover letter that includes a brief description of, and rationale for, the survey will be sent by email to potential respondents by the first week of August in 2017, 2018 and 2019. A report of the respondent's expenditures of the NIH award amounts, including NIH awards received as a sub-recipient from another institution, following the proposed format for expenditure categories included with the survey form, will be requested to be completed and submitted online no later than December 8, which, in most years, will be approximately 120 days after mailing. Survey respondents will be selected on the basis of award levels, which determine the weight of the respondents in the biomedical research and development price index. Potential respondents will include (1) the top 100 organizations in total awards, which account for about 77 percent of total awards; (2) 40 additional organizations that are not primarily in the “Research and Development (R&D) contracts” category; and (3) 10 additional organizations that are primarily in the “R&D contracts” category.

IV. Data

OMB Control Number: 0608-0069.

Form Number: None.

Type of Review: Regular submission.

Affected Public: Universities or other organizations that are NIH award recipients.

Estimated Number of Respondents: 120.

Estimated Time per Response: 16 hours, but may vary among respondents because of differences in institution structure, size, and complexity.

Estimated Total Annual Burden Hours: 1,920 hours.

Estimated Total Annual Cost to Public: $0.

V. Request for Comments

Comments are invited on: (1) Whether the proposed collection of information is necessary for the proper performance of the functions of the NIH, including whether the information has practical utility; (2) the accuracy of the agency's estimate of the burden (including hours and cost) of the proposed collection of information; (3) ways to enhance the quality, utility, and clarity of the information to be collected; and (4) ways to minimize the burden of the collection of information on respondents, including through the use of automated collection techniques or other forms of information technology.

Comments submitted in response to this notice will be summarized and included in the request for OMB approval of this information collection; they also will become a matter of public record.

Sheleen Dumas,
Departmental PRA Lead, Office of Chief Information Officer.

[FR Doc. 2017-10846 Filed 5-25-17; 8:45 am]

BILLING CODE 3510-EA-P